DEPARTMENT OF AGRICULTURE

Rural Business-Cooperative Service

Announcement of Rural Cooperative Development Grant Application Deadlines and Funding Levels

AGENCY: Rural Business-Cooperative Service, USDA.

ACTION: Notice of solicitation of applications.

SUMMARY: The Rural Business-Cooperative Service (RBS) announces the availability of approximately $5.952 million in competing Rural Cooperative Development Grant (RCDG) funds for fiscal year (FY) 2005. Of this amount, up to $1.488 million will be reserved for applications that focus on assistance to small, minority producers through their cooperative businesses. This action will comply with legislation that authorizes grants for establishing and operating centers for rural cooperative development. The intended effect of this notice is to solicit applications for FY 2005 and award grants on or before September 15, 2005. The maximum award per grant is $300,000 and matching funds are required.

DATES: You must submit completed applications for grants on paper or electronically by 4 p.m. eastern time on July 1, 2005.

ADDRESSES: You may obtain application materials for a Rural Cooperative Development Grant via the Internet at the following Web address: http://www.rurdev.usda.gov/rbs/coops/rcdg/rcdg.htm or by contacting the Agency Contact for your State listed on the following Web site: http://www.rurdev.usda.gov/rbs/coops/rcdg/contacts.htm.

Submit completed paper applications via commercial delivery or mail to USDA-RBS-Cooperative Services (CS), Attn: RCDG Program, 1400 Independence Avenue SW., Mail Stop 3250, Room 4016—South, Washington, DC 20250-3250. The phone number that should be used for FedEx packages is (202) 720-7558.

Submit electronic grant applications to the following Internet address: http://www.grants.gov. Applicants will need to complete a registration process before a grant application can be submitted through Grants.gov. Applicants should register at least 2 weeks prior to the application deadline to ensure timely submission of their applications.

FOR FURTHER INFORMATION CONTACT: The Agency contact for your State listed on the program Web site at http://www.rurdev.usda.gov/rbs/coops/rcdg/rcdg.htm. The program Web site contains application guidance, including a Frequently Asked Questions section, and an application guide.

SUPPLEMENTARY INFORMATION:

Overview

Federal Agency: Rural Business-Cooperative Service (RBS).

Funding Opportunity Title: Rural Cooperative Development Grant.

Announcement Type: Initial announcement.

Catalog of Federal Domestic Assistance Number: 10.771.

Dates: Application Deadline: 4 p.m. eastern time on July 1, 2005.

I. Funding Opportunity Description

RCDGs are authorized by section 310B(e) of the Consolidated Farm and Rural Development Act (7 U.S.C. 1932(e)). Regulations are contained in 7 CFR part 4284, subparts A and F. The primary objective of the RCDG program is to improve the economic condition of rural areas through cooperative development by Centers. RCDG grants are used to facilitate the creation or retention of jobs in rural areas through the development of new rural cooperatives, value-added processing and other rural businesses. The program is administered through USDA Rural Development State Offices acting on behalf of RBS.

Definitions

The definitions published at 7 CFR 4284.3 and 4284.504 are incorporated by reference.

II. Award Information

Type of Award: Grant.

Fiscal Year Funds: FY 2005.

Approximate Total Funding: $5.952.0 million (up to $1.488 million reserved for small, minority producers).

Approximate Number of Awards: 20.

Approximate Average Award: $250,000.

Floor of Award Range: None.

Ceiling of Award Range: $300,000.

Anticipated Award Date: 15 September 2005.

Budget Period Length: 12 months.

Project Period Length: 12 months.

III. Eligibility Information

A. Eligible Applicants: Grants may be made to non-profit corporations and institutions of higher education. Grants may not be made to Public bodies.

B. Cost Sharing or Matching: Matching funds are required. Applicants must verify in their applications that matching funds are available for the time period of the grant. The matching fund requirement is 25 percent of total project costs (5 percent in the case of 1994 Institutions) comprised of private funds and in-kind contributions. Preference points will be awarded where applicants commit to providing greater than the minimum 25 percent matching contribution (5 percent in the case of 1994 Institutions). Unless provided by other authorizing legislation, other Federal grant funds cannot be used as matching funds. However, matching funds contributed by the applicant may include proceeds from a loan from another Federal source. Matching funds must be spent at a rate equal to or greater than the rate at which grant funds are expended. Matching funds must be provided by either the applicant or by a third party in the form of cash or in-kind contributions. Matching funds must be spent on eligible expenses and must be from eligible sources.

C. Other Eligibility Requirements:

• Grant Period Eligibility: Applications should have a timeframe of no more than 365 days with the time period beginning no later than January 1, 2006.

• Applications without sufficient information to determine eligibility will not be considered for funding.

• Applications that are non-responsive to the submission requirements detailed in Section IV of this notice will not be considered for funding.

• Applications that are missing any required elements (in whole or in part) will not be considered for funding.

Because the primary objective of the cooperative development center concept is to provide technical assistance services, including feasibility analysis, applications that do not propose the development or continuation of the cooperative development center concept will not be considered. Also, applications that focus on assistance to only one cooperative within the project area will not be considered. Nor will projects proposing to pay for operating costs of cooperatives be considered. To enhance the long-term viability of cooperative development centers, the strengthening of technical assistance capacity within new and existing centers is strongly encouraged.

IV. Application and Submission Information

A. Address to Request Application Package: You can obtain the application package for this funding opportunity at the following Internet address: http://www.rurdev.usda.gov/rbs/coops/rcdg/rcdg.htm. If you do not have access to the Internet, or if you have difficulty accessing the forms online, you may contact the Rural Development State Office in your State listed on the following Web site: http://www.rurdev.usda.gov/rbs/coops/rcdg/contacts.htm. Application forms can be mailed to you. To submit an application electronically, you may access http://www.grants.gov to obtain the correct forms.

B. Content and Form of Submission: You may submit your application in paper or in an electronic format. If you submit your application in paper form, you must submit a signed original and one copy of your complete application. The application must be in the following format:

• Font size: 12 point unreduced.

• Paper size: 8.5 by 11 inches.

• Page margin size: 1 inch on the top, bottom, left, and right.

• Printed on only one side of each page.

• Held together only by rubber bands or metal or plastic clips; not bound in any other way.

Language: English, avoid jargon.

The submission must include all pages of the application. It is recommended that the application be in black and white, and not color. All paper applications will be scanned electronically for further review upon receipt by the Agency and the scanned images will all be in black and white. Those evaluating the application will only receive black and white images.

If you submit your application electronically, you must follow the instructions given at the Internet address: http://www.grants.gov. Applicants are advised to visit the site well in advance of the application deadline if they plan to apply electronically to ensure they have obtained the proper authentication and have sufficient computer resources to complete the application.

An application must contain all of the following elements. Any application that is missing any element or contains an incomplete element will not be considered for funding.

1. Form SF-424, “Application for Federal Assistance.” In order for this form to be considered complete, it must contain the legal name of the applicant, the applicant's Data Universal Numbering System (DUNS) number, the applicant's complete mailing address, the name and telephone number of a contact person, the employer identification number, the start and end dates of the project, the Federal funds requested, other funds that will be used as matching funds, an answer to the question, “Is applicant delinquent on any Federal debt?,” and the name and signature of an authorized representative.

You are required to have a DUNS number to apply for a grant from RBS. The DUNS number is a nine-digit identification number, which uniquely identifies business entities. Obtaining a DUNS number is easy and there is no charge. To obtain a DUNS number, access http://www.dnb.com/us/ or call 866-705-5711. For more information, see the RCDG Web site at: http://www.rurdev.usda.gov/rbs/coops/rcdg/rcdg.htm or contact the State Office in your State from the list on the following Web site: http://www.rurdev.usda.gov/rbs/coops/rcdg/contacts.htm.

2. Form SF-424A, “Budget Information—Non-Construction Programs.” In order for this form to be considered complete, the applicant must fill out sections A, B, C, and D. The applicant must include both Federal and matching funds.

3. Form SF-424B, “Assurances—Non-Construction Programs.” In order for this form to be considered complete, the form must be signed by an authorized official.

4. Survey on Ensuring Equal Opportunity for Applicants. RBS is required to give this survey to all non-profit applicants. Submitting this survey is voluntary.

5. Proposal. Each proposal must contain the following elements:

i. Title Page. The Title Page should include the title of the project as well as any other relevant identifying information. The length should not exceed one page.

ii. Table of Contents. For ease of locating information, each proposal must contain a detailed Table of Contents (TOC) immediately following the Title Page. The TOC should include page numbers for each component of the proposal. Pagination should begin immediately following the TOC. In order for this element to be considered complete, the TOC should include page numbers for the Executive Summary, the Eligibility discussion, the Proposal Narrative and its 11 subcomponents, Conflict of Interest Disclosure, Certification of Judgment, Verification of Matching Funds, and Certification of Matching Funds.

iii. Executive Summary. Summarize the project in three (3) pages or less. Pages in excess of the three-page limit will not be considered. This summary must briefly describe the Center, including goals and tasks to be completed, the amount requested, how the work will be performed, and whether organizational staff, consultants, or contractors will be used. It should also include the title of the project, the names of the primary project contacts, and a list of the main goals. The project summary should immediately follow the TOC.

iv. Eligibility. Describe in detail how the applicant meets the eligibility requirements. This discussion is limited to two (2) pages. Pages in excess of the two-page limit will not be considered.

v. Proposal Narrative. The proposal narrative is limited to a total of 50 pages. Pages in excess of the 50-page limit will not be considered. The narrative portion of the proposal must include, but is not limited to, the following:

a. Project Title. The title of the proposed project must be brief, not to exceed 75 characters, yet describe the essentials of the project. It should match the Project Title submitted on the SF-424. The Project Title does not need to appear on a separate page. It can be included on the Title Page and/or on the Information Sheet.

b. Information Sheet. A separate one-page information sheet which lists each of the 12 evaluation criteria (Section V.A.) followed by the page numbers of all relevant material and documentation contained in the application which supports that criteria.

c. Goals of the Project. This section must include the following:

1. A provision that substantiates that the Center will effectively serve rural areas in the United States;

2. A provision that the primary objective of the Center will be to improve the economic condition of rural areas through cooperative development;

3. A description of the contributions that the proposed activities are likely to make to the improvement of the economic conditions of the rural areas for which the Center will provide services; and

4. Provisions stating that the Center, in carrying out the activities, will seek, where appropriate, the advice, participation, expertise, and assistance of representatives of business, industry, educational institutions, the Federal government, and State and local governments.

5. A provision stating that the proposed activities develop or continue the cooperative development center concept. The agency strongly encourages proposals to strengthen technical assistance capacity within new and existing centers.

6. A provision stating that proposed activities focus assistance to more than one cooperative within the project area.

d. Work Plan. Applicants must discuss the specific tasks to be completed using grant and matching funds. The work plan should show how customers will be identified, key personnel to be involved, and the evaluation methods to be used to determine the success of specific tasks and overall objectives of Center operations. The budget must present a breakdown of the estimated costs associated with cooperative development activities as well as the operation of the Center and allocate these costs to each of the tasks to be undertaken. Projects proposing to pay for the operating costs of cooperatives will not be considered. Matching funds as well as grant funds must be accounted for in the budget.

e. Performance Evaluation Criteria. The applicant must suggest criteria by which the project should be evaluated in the event that a grant is awarded. These suggested criteria are not binding on USDA. Please note that these criteria are different from the Proposal Evaluation Criteria (see Section V.A.) and are a separate requirement. Failure to submit at least one performance criterion by the application deadline will result in the application being determined to be incomplete and the proposal will not be considered for funding.

f. Undertakings. The applicant must expressly undertake to do the following:

1. Take all practicable steps to develop continuing sources of financial support for the Center, particularly from sources in the private sectors;

2. Make arrangements for the activities by the nonprofit institution, including institutions of higher education, operating the Center to be monitored and evaluated; and

3. Provide an accounting for the money received by the grantee in accordance with 7 CFR part 4284, subpart F.

g. Delivery of Cooperative Development Assistance. The applicant must describe its previous accomplishments and outcomes in cooperative development activities and/or its potential for effective delivery of cooperative development services to rural areas. Applicants who have received funding under the RCDG program in Fiscal Years 2003 or 2004 must provide a summation of progress and results for all projects funded fully or partially by the RCDG program in those years. This summary should include the status of cooperative businesses organized and all eligible grant activities. The applicant also should describe the type(s) of assistance to be provided, the expected impacts of that assistance, the sustainability of cooperative organizations receiving the assistance, and the transferability of its Cooperative development strategy and focus to other areas of the U.S.

h. Qualifications of Personnel. Applicants must describe the qualifications of personnel expected to perform key center tasks, and whether these personnel are to be full/part-time Center employees or contract personnel. Those personnel having a track record of positive solutions for complex cooperative development or marketing problems, or those with a record of conducting feasibility studies that later proved to be accurate, business planning, marketing analysis, or other activities relevant to the Center's success should be highlighted.

i. Support and Commitments. Applicants must describe the level of support and commitment in the community for the proposed Center and the services it would provide. This support can be from industry groups, commodity groups, and potential customers of the Center. Plans for coordinating with other developmental organizations in the proposed service area, or with State and local government institutions should be included. Letters supporting cooperation and coordination from potential local customers should be provided. Letters from industry groups, commodity groups, local and State government, and similar organizations should be referenced, but not included in the application package. When referencing these support letters, provide the name of the organization, date of the letter, the nature of the support (cash, technical assistance, moral), and the name and title of the person signing the letter.

j. Future Support. Applicants should describe their vision for Center operations in future years, including issues such as sources and uses of alternative funding; reliance on Federal, State, and local grants; and the use of in-house personnel for providing services versus contracting out for that expertise. To the extent possible, applicants should document future funding sources that will help achieve long-term sustainability of the Center.

k. Proposal Evaluation Criteria. Each of the evaluation criteria referenced in Section V.A. must be specifically and individually addressed in narrative form. If the information and documentation for these criteria are incorporated in the written narrative, the application may reference that information and documentation by Section number and page. The applicant does not have to repeat information and documentation in Section V.A. if it is presented elsewhere. However, the applicant must correctly reference this information and documentation. Reviewers will not be required to search for information and documentation that is incorrectly referenced.

6. Conflict of Interest Disclosure. If the applicant plans to conduct business with any family members, company owners, or other identities of interest using grant or matching funds, the nature of the business to be conducted and the nature of the relationship between the applicant and the identity of interest must be disclosed. Examples include in-kind matching funds donated by the applicant's immediate family and contracting with someone who has a financial interest in the venture for services paid by grant or matching funds.

7. Certification of Judgment Owed to the United States. Applicants must certify that the United States has not obtained a judgment against them. No grant funds shall be used to pay a judgment owed to the United States. Applicants should include a statement for this section that reads as follows: “[INSERT NAME OF APPLICANT] certifies that the United States has not obtained a judgment against it.”

8. Verification of Matching Funds. All proposed matching funds must be specifically documented in the application. Matching funds may be cash or in-kind contributions. If matching funds are to be provided by the applicant in cash, there must be a statement that cash will be available, the amount of the cash, and the source of the cash. If the matching funds are to be provided by a third party in cash, the application must include a signed letter from that third party verifying how much cash will be donated and when it will be donated. Verification for funds donated outside the proposed time period of the grant will not be accepted. If the matching funds are to be provided by a third party in-kind donation, the application must include a signed letter from the third party verifying the goods or services to be donated, when the goods and services will be donated, and the value of the goods or services in accordance with 7 CFR section 3019.23(c). Verification for in-kind contributions donated outside the proposed time period of the grant will not be accepted. Verification for in-kind contributions that are over-valued will not be accepted.

If matching funds are in cash, they must be spent on goods and services that are eligible expenditures for this grant program. If matching funds are in-kind contributions, the donated goods or services must be considered eligible expenditures for this grant program as well as be used for eligible purposes. The matching funds must be spent or donated during the grant period and the funds must be expended at a rate equal to or greater than the rate grant funds are expended. Some examples of unacceptable matching funds are donations of fixed equipment and buildings, and the preparation of your RCDG application package.

If acceptable verification for all proposed matching funds is missing from the application, the application will be determined to be incomplete and will not be considered for funding.

9. Certification of Matching Funds. Applicants must certify that matching funds will be available at the same time grant funds are anticipated to be spent and that matching funds will be spent in advance of grant funding, such that for every dollar of grant funds advanced, not less than the required amount of matching funds will have been expended prior to submitting the request for reimbursement. Please note that this certification is a separate requirement from the Verification of Matching Funds requirement. Applicants should include a statement for this section that reads as follows: “[INSERT NAME OF APPLICANT] certifies that matching funds will be available at the same time grant funds are anticipated to be spent and that matching funds will be spent in advance of grant funding, such that for every dollar of grant funds advanced, not less than 25 cents (5 cents for 1994 Institutions) of matching funds will have been expended prior to submitting the request for reimbursement.” A separate signature is not required.

C. Submission Dates and Times:

Application Deadline Date: 4 p.m. eastern time on July 1, 2005.

Explanation of Deadlines: Paper applications must be received at USDA-RBS-CS, Attn: RCDG Program, 1400 Independence Avenue, SW., Mail Stop 3250, Room 4016—South, Washington, DC 20250 by 4 p.m. eastern time on the deadline date. If you send your application by the United States Postal Service or commercial delivery service, you must ensure that the carrier will be able to guarantee delivery of the application by the closing date and time. If your application does not meet the deadline above, it will not be considered for funding. You will be notified that your application did not meet the submission requirements. You will also be notified by mail or by e-mail if your application is received on time.

Electronic Submission: Submit electronic grant applications to the following Internet address: http://www.grants.gov.

D. Intergovernmental Review of Applications: Executive Order 12372 does apply to this program.

E. Funding Restrictions: Funding restrictions apply to both grant funds and matching funds. Grant funds may be used to pay up to 75 percent (95 percent where the grantee is a 1994 Institution) of the total project costs. Unless provided by other authorizing legislation, other Federal grant funds cannot be used as matching funds. However, matching funds contributed by the applicant may include proceeds from Federal loan.

In general, grant and matching funds can be used to assist farmers and ranchers in organizing new or improving existing agriculture cooperatives, including those involved in value-added activities. Grant and matching funds can also be used to help rural residents form other cooperatively operated businesses such as housing cooperatives, including the conversion of properties administered under the section 515 program administered by the Rural Housing Service to housing cooperatives. Finally, grant and matching funds can be used to help rural residents form shared-services businesses to support their individually owned rural businesses.

1. Grant funds and matching funds may be used for, but are not limited to, providing the following to individuals, cooperatives, small businesses and other similar entities in rural areas served by the Center:

i. Applied research, feasibility, environmental and other studies that may be useful for the purpose of cooperative development.

ii. Collection, interpretation and dissemination of principles, facts, technical knowledge, or other information for the purpose of cooperative development.

iii. Providing training and instruction for the purpose of cooperative development.

iv. Providing loans and grants for the purpose of cooperative development in accordance with this notice and applicable regulations.

v. Providing technical assistance, research services and advisory services for the purpose of cooperative development.

2. No funds made available under this solicitation shall be used to do any of the following activities:

i. Duplicate current services or replace or substitute support previously provided. If the current service is inadequate, however, grant funds may be used to expand the level of effort or services beyond that which is currently being provided;

ii. Pay costs of preparing the application package for funding under this program;

iii. Pay costs of the project incurred prior to the date of grant approval;

iv. Fund political activities;

v. Pay for assistance to any private business enterprise that does not have at least 51 percent ownership by those who are either citizens of the United States or reside in the United States after being legally admitted for permanent residence;

vi. Pay any judgment or debt owed to the United States;

vii. Plan, repair, rehabilitate, acquire, or construct a building or facility, including a processing facility;

viii. Purchase, rent, or install fixed equipment, including laboratory equipment or processing machinery;

ix. Pay for the repair of privately owned vehicles;

x. Pay for operating costs of cooperatives;

xi. Fund research and development; or

xii. Fund any activities prohibited by 7 CFR part 3015 or 3019.

F. Other Submission Requirements: Applications must be received at USDA-RBS-CS, Attn: RCDG Program, 1400 Independence Avenue, SW., Mail Stop 3250, Room 4016—South, Washington, DC 20250 by 4 p.m. eastern time on the deadline date. Each application submission must contain all required documents in one envelope, if by mail or commercial delivery service, or submitted through http://www.grants.gov, if electronic.

V. Application Review Information

A. Proposal Evaluation Criteria: All eligible and complete applications will be evaluated based on the following criteria. Failure to address any one of the following criteria will render the application incomplete, and the application will not be considered for funding.

For information and documentation that appear in other sections of this funding announcement that already address the following criteria, the applicant may reference that information and documentation by Section number and page number. The applicant does not have to repeat information and documentation in this section if it is presented elsewhere. However, the applicant must correctly reference this information and documentation. Reviewers will not be required to search for information and documentation that is incorrectly referenced.

1. Administrative capabilities. (1-10 points) The application will be evaluated to determine whether the subject Center has a track record of administering a nationally coordinated, regional or State-wide operated project. Centers that have capable financial systems and audit controls, personnel and program administration performance measures and clear rules of governance will receive more points than those not evidencing this capacity.

2. Technical assistance and other services. (1-6 points) The Agency will evaluate the applicant's demonstrated expertise in providing technical assistance in rural areas. This includes conducting feasibility studies, developing marketing plans, developing business plans, conducting applied research related to cooperative development, and performing those other activities necessary for a group of individuals to form a cooperative.

3. Economic development. (1-5 points) The Agency will evaluate the applicant's demonstrated ability to assist in the retention of businesses, facilitate the establishment of cooperatives and new cooperative approaches and generate employment opportunities that will improve the economic conditions of rural areas.

4. Linkages. (1-5 points) The Agency will evaluate the applicant's demonstrated ability to create horizontal linkages among businesses within and among various sectors in rural areas of the United States and vertical linkages to domestic and international markets. These linkages must be among cooperatives and businesses, not development organizations.

5. Commitment. (1-10 points) The Agency will evaluate the applicant's commitment to providing technical assistance and other services to underserved and economically distressed areas in rural areas of the United States.

6. Matching Funds. (1-5 points) All applicants must demonstrate matching funds equal to at least 25 percent (5 percent for 1994 Institutions) of total project costs. Applications exceeding these minimum commitment levels will receive more points. If the applicant provides eligible matching funds of 25 percent, 1 point will be awarded; 26 to 35 percent, 2 points will be awarded; 36 to 45 percent, 3 points; 46 to 55 percent, 4 points; or 56 or greater percent, 5 points will be awarded. If the applicant is a 1994 Institution and provides eligible matching funds of 5 percent, 1 point will be awarded; 6 to 9 percent, 2 points will be awarded; 10 to 14 percent, 3 points; 15 to 19 percent, 4 points; or 20 or greater percent, 5 points will be awarded.

7. Delivery. (1-12 points) The Agency will evaluate whether the Center has a track record in providing technical assistance in rural areas and accomplishing effective outcomes in cooperative development. The Center's potential for delivering effective cooperative development assistance, the expected effects of that assistance, the sustainability of cooperative organizations receiving the assistance, and the transferability of the Center's cooperative development strategy and focus to other States will also be assessed.

8. Work Plan/Budget. (1-10 points) The work plan will be reviewed for detailed actions and an accompanying timetable for implementing the proposal. Clear, logical, realistic and efficient plans will result in a higher score. Budgets will be reviewed for completeness and the quality of non-Federal funding commitments.

9. Qualifications of those Performing the Tasks. (1-5 points) The application will be evaluated to determine if the personnel expected to perform key center tasks have a track record of positive solutions for complex cooperative development or marketing problems, or a successful record of conducting accurate feasibility studies, business plans, marketing analysis, or other activities relevant to Cooperative development center success.

10. Local support. (1-5 points) Applications will be reviewed for previous and expected local support for the Center, plans for coordinating with other developmental organizations in the proposed service area, and coordination with State and local institutions. Support documentation should include recognition of rural values that balance employment opportunities with environmental stewardship and other positive rural amenities. Other than support from potential customers, support letters and documentation should be referenced and not submitted. Centers that demonstrate strong support from potential beneficiaries and formal evidence of the Center's intent to coordinate with other developmental organizations will receive more points than those not evidencing such support and formal intent.

11. Future support. (1-2 points) Applications that demonstrate their vision for funding center operations for future years, including diversification of funding sources and building in-house technical assistance capacity, will receive more points for this criterion.

12. Non-Agricultural Rural Cooperative Development. (0 or 5 points) Applicants that propose to use more than 50 percent of grant and matching funds to work with rural residents and businesses who are not engaged in production agriculture to develop cooperative businesses will receive 5 points. All other applicants will receive zero points. The types of cooperative development that meet this criterion include, but are not limited to, broadband cooperatives, housing cooperatives, healthcare cooperatives, shared-services cooperatives, daycare cooperatives, and any other type of cooperative that is not producing or marketing agricultural products.

B. Review and Selection Process: The Agency will conduct an initial screening of all proposals to determine whether the applicant is eligible, complete, and sufficiently responsive to the requirements set forth in this funding announcement so as to allow for an informed review. Incomplete or non-responsive applications will not be evaluated further. Reviewers appointed by the Agency will evaluate applications.

C. Anticipated Announcement and Award Dates:

Award Date: The announcement of award selections is expected to occur on or about September 15, 2005.

VI. Award Administration Information

A. Award Notices: Successful applicants will receive a notification of tentative selection for funding from Rural Development. Applicants must comply with all applicable statutes and regulations before the grant award will be approved. Unsuccessful applicants will receive notification by mail.

B. Administrative and National Policy Requirements: 7 CFR parts 3015, 3019, and 4284. To view these regulations, please see the following Internet address: http://www.access.gpo.gov/nara/cfr/cfr-table-search.html.

Grantees selected for awards under this program will be required to enter into a Grant Agreement and will be subject to the written conditions of the award. In addition, the following forms must be executed:

• Form RD 1940-1, “Request for Obligation of Funds.”

• Form RD 1942-46, “Letter of Intent to Meet Conditions.”

• Form AD-1047, “Certification Regarding Debarment, Suspension, and Other Responsibility Matters-Primary Covered Transactions.”

• Form AD-1048, “Certification Regarding Debarment, Suspension, Ineligibility and Voluntary Exclusion-Lower Tier Covered Transactions.”

• Form AD-1049, “Certification Regarding Drug-Free Workplace Requirements (Grants).”

• Form RD 400-1, “Equal Opportunity Agreement.”

• Form RD 400-4, “Assurance Agreement.”

• RD Instruction 1940-Q, Exhibit A-1, “Certification for Contracts, Grants and Loans.”

Additional information on these requirements can be found on the RBS Web site at the following Internet address: http://www.rurdev.usda.gov/rbs/coops/rcdg/rcdg.htm.

Reporting Requirements: You must provide Rural Development with an original hard copy of the following reports. RBS is currently developing an online reporting system. Once the system is developed, you may be required to submit some or all of your reports online instead of in hard copy. The hard copies of your reports should be submitted to the Rural Development State Office of the state in which the Center is located. Failure to submit satisfactory reports on time may result in suspension or termination of your grant.

1. A “Financial Status Report” listing expenditures according to agreed upon budget categories, on a semi-annual basis. Reporting periods end each March 31 and September 30. Reports are due 30 days after the reporting period ends.

2. Semi-annual performance reports that compare accomplishments to the objectives stated in the proposal. Identify all tasks completed to date and provide documentation supporting the reported results. If the original schedule provided in the work plan is not being met, the report should discuss the problems or delays that may affect completion of the project. Objectives for the next reporting period should be listed. Compliance with any special conditions on the use of award funds should be discussed. Reports are due as provided in paragraph 1. of this section. The supporting documentation for completed tasks includes, but is not limited to, feasibility studies, marketing plans, business plans, publication quality success stories, applied research reports, copies of surveys conducted, articles of incorporation and bylaws and an accounting of how outreach, training, and other funds were expended.

3. Final project performance reports, including supporting documentation, are due within 90 days of the completion of the project.

VII. Agency Contacts

For general questions about this announcement and for program technical assistance, please contact the State Office for the State in which the Applicant is based. A list is available at the following Web site: http://www.rurdev.usda.gov/rbs/coops/rcdg/contacts.htm. If you are unable to contact your State Office, please contact a nearby State Office or you may contact the RBS National Office at USDA-RBS-CS, Attn: RCDG Program, 1400 Independence Avenue, SW., Mail Stop 3250, Rm. 4016—South, Washington, DC 20250-3250, telephone: (202) 720-7558, e-mail: cpgrants@usda.gov.

Dated: May 5, 2005.
Peter J. Thomas,
Administrator, Rural Business-Cooperative Service.

[FR Doc. 05-9551 Filed 5-12-05; 8:45 am]

BILLING CODE 3410-XY-P